ENVIRONMENTAL PROTECTION AGENCY

40 CFR Part 52

[UT-001-0029b; FRL-6712-1]

Approval and Promulgation of Air Quality Implementation Plan for Utah: Transportation Control Measures

AGENCY: Environmental Protection Agency (EPA).

ACTION: Proposed rule.

SUMMARY: EPA is proposing to approve revisions to the Utah State Implementation Plan (SIP) that incorporate a new transportation control measure (TCM) in Utah County. Approval of this TCM as part of the Utah SIP would mean that this measure will receive priority for funding, and that it may proceed in the event of a transportation conformity lapse. We are proposing to approve this SIP revision under sections 110(k) and 176 of the Clean Air Act. Additional information is available at the address indicated below. In the Final Rules Section of this Federal Register, EPA is approving the State's SIP revision as a direct final rule without prior proposal because the Agency views this as a noncontroversial revision and anticipates no adverse comments. A detailed rationale for the approval is set forth in the direct final rule. If no adverse comments are received in response to this rule, no further activity is contemplated in relation to this rule. If EPA receives adverse comments, the direct final rule will be withdrawn and all public comments received will be addressed in a subsequent final rule based on this proposed rule. EPA will not institute a second comment period on this action. Any parties interested in commenting on this action should do so at this time.

DATES: Comments must be received in writing by July 14, 2000.

ADDRESSES: Written comments should be addressed to:

Richard R. Long, Director, Air & Radiation Program (8P-AR), United States Environmental Protection Agency, Region 8, 999 18th Street, Suite 500, Denver, Colorado 80202-2466.

Copies of the documents relevant to this action are available for public inspection between 8 a.m. and 4 p.m., Monday through Friday at the following office: United States Environmental Protection Agency, Region 8, Air & Radiation Program, 999 18th Street, Suite 500, Denver, Colorado 80202-2466.

FOR FURTHER INFORMATION CONTACT: Jeff Houk, Air & Radiation Program (8P-AR), United States Environmental Protection Agency, Region 8, 999 18th Street, Suite 500, Denver, Colorado 80202-2466 ph. (303) 312-6446.

SUPPLEMENTARY INFORMATION: See the information provided in the Direct Final action which is located in the Rules Section of this Federal Register.

Dated: June 1, 2000.
Jack McGraw,
Acting Regional Administrator, Region VIII.

[FR Doc. 00-14994 Filed 6-13-00; 8:45 am]

BILLING CODE 6560-50-P